DEPARTMENT OF THE INTERIOR

Minerals Management Service

Outer Continental Shelf, Central Gulf of Mexico, Oil and Gas Lease Sale 178

AGENCY: Minerals Management Service, Interior.

ACTION: Availability of the proposed notice of sale, and notice of intent to hold two workshops to discuss several new provisions in the proposed notice

Gulf of Mexico Outer Continental Shelf (OCS), Notice of Availability of the proposed Notice of Sale for proposed Oil and Gas Lease Sale 178 in the Central Gulf of Mexico. This Notice is published pursuant to 30 CFR 256.29(c) as a matter of information to the public.

With regard to oil and gas leasing on the OCS, the Secretary of the Interior, pursuant to section 19 of the OCS Lands Act, as amended, provides the affected States the opportunity to review the proposed Notice. The proposed Notice sets forth the proposed terms and conditions of the sale, including minimum bids, royalty rates, and rentals.

The proposed Notice of Sale for Sale 178 and a “Proposed Sale Notice Package” containing information essential to potential bidders may be obtained from the Public Information Unit, Gulf of Mexico Region, Minerals Management Service, 1201 Elmwood Park Boulevard, New Orleans, Louisiana 70123-2394. Telephone: (504) 736-2519. These documents can also be found on the MMS Homepage Address on the Internet: http://www.mms.gov.

The final Notice of Sale will be published in the Federal Register at least 30 days prior to the date of bid opening. Bid opening is currently scheduled for March 28, 2001.

Workshops to Discuss Several New Provisions in the Proposed Notice

The MMS will hold two workshops to discuss with interested parties a number of new provisions being considered for proposed Lease Sale 178 in the Central Gulf of Mexico:

• deepwater royalty relief for leases in 800 meters water depth and greater;

• shallow-water deep-gas royalty relief for leases in water depths less than 200 meters (where natural gas wells have been drilled 15,000 feet or greater and commence production during the primary term of the lease);

• subsalt lease term extension for leases in water depths less than 400 meters (with a primary term of 5 years), providing for a two-year extension beyond the 5-year primary term if a subsalt well has been drilled during the primary term; and

• other proposed terms and conditions.

Workshops to Discuss Provisions of the Proposed Rule Regarding Discretionary Royalty Relief

In addition, the MMS will hold two workshops to discuss with interested parties provisions of the proposed rule at 30 CFR, part 203, published in the Federal Register on November 16, 2000, regarding discretionary royalty relief for leases in 200 meters water depth and greater. These workshops will follow the Proposed Notice Workshops mentioned above, and at the same location.

Date, Time, and Location of Workshops:

December 12, 2000

Minerals Management Service, Room 111, 1201 Elmwood Park Boulevard, New Orleans, Louisiana 70123.

Provisions of Sale 178 proposed Notice of Sale, 9 a.m. until Noon

Provisions of discretionary royalty relief proposed rule, 1 to 4 p.m.

and

December 14, 2000

Sheraton North Houston (at George Bush Intercontinental Airport), 15700 John F. Kennedy Boulevard, Houston, Texas 77032, Hotel phone—(281) 442-5100.

Provisions of the Sale 178 proposed Notice of Sale, 9 a.m. until Noon

Provisions of discretionary royalty relief proposed rule, 1 to 4 p.m.

Attendees need not register prior to attending either meeting. Appropriate MMS personnel will be present at both workshops to answer questions regarding any aspect of the proposed Notice in the morning workshops, and questions regarding the proposed rule regarding discretionary royalty relief in the afternoon workshops.

Potential bidders in Sale 178 should note that sale terms and conditions and other information presented in the proposed Notice may be revised following consideration of comments received during consultation with interested parties on the proposed Notice. A decision on the final Notice is scheduled for February 2001.

For additional information, please call Mr. Charles Hill (504) 736-2795.

Dated: November 22, 2000.
Thomas R. Kitsos,
Director, Minerals Management Service.

[FR Doc. 00-30413 Filed 11-28-00; 8:45 am]

BILLING CODE 4310-MR-P